DEPARTMENT OF DEFENSE

Office of the Secretary

Privacy Act of 1974; System of Records

AGENCY: Office of the Secretary, DoD.

ACTION: Notice to alter and delete a system of records.

SUMMARY: The Defense Security Service (DSS) is transferring a system of records to the Defense Human Resources Activity, Office of the Secretary of Defense (OSD). The system of records is identified as V5-06, entitled ‘Security Research Center Research Files’.

Before being transferred, the system of records is being altered to add a new purpose (conducting personnel security pilot test projects); a new category of records (security clearance and adjudication action information, personnel security continuing evaluation measures; background investigation reports); and adds a (k)(5) exemption to protect the identity of confidential sources. The system of records will be known as DHRA 02, entitled ‘PERSEREC Research Files’.

DATES: The changes will be effective on December 30, 2002, unless comments are received that would result in a contrary determination.

ADDRESSES: Send comments to OSD Privacy Act Coordinator, Directives and Records Branch, Washington Headquarters Services, 1155 Defense Pentagon, Washington, DC 20301-1155.

FOR FURTHER INFORMATION CONTACT: Mr. David Bosworth at (703) 601-4728.

SUPPLEMENTARY INFORMATION: The Office of the Secretary of Defense notices for systems of records subject to the Privacy Act of 1974 (5 U.S.C. 552a), as amended, have been published in the Federal Register and are available from the address above.

The proposed system report, as required by 5 U.S.C. 552a(r) of the Privacy Act of 1974, as amended, was submitted on November 13, 2002, to the House Committee on Government Reform, the Senate Committee on Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: November 18, 2002.
Patricia L. Toppings,
Alternate OSD Federal Register Liaison Officer, Department of Defense.

Deletion

V5-06

System name:

Security Research Center Research Files (June 1, 1999, 64 FR 29281).

Reason:

The responsibility for this system of records is being transferred to the Defense Human Resources Activity (DHRA), Office of the Secretary of Defense. The system of records will be known as DHRA 02, entitled ‘PERSEREC Research Files’.

Alteration

DHRA 02

System name:

PERSEREC Research Files.

Changes:

* * * * *

Categories of records in the system:

Add to entry ‘security clearance and adjudication action information; personnel security continuing evaluation measures; background investigation reports’.

* * * * *

Purpose(s):

Add to entry ‘; and (6) conducting personnel security pilot test projects.’

* * * * *

Exemptions claimed for the system:

Delete entry and replace with ‘Investigative material compiled solely for the purpose of determining suitability, eligibility, or qualifications for federal civilian employment, military service, federal contracts, or access to classified information may be exempt pursuant to 5 U.S.C. 552a(k)(5), but only to the extent that such material would reveal the identity of a confidential source.

An exemption rule for this system has been promulgated in accordance with requirements of 5 U.S.C. 553(b)(1), (2), and (3), (c) and (e) published in 32 CFR part 311. For additional information contact the system manager.'

* * * * *

DHRA 02

System name:

PERSEREC Research Files.

System location:

Defense Personnel Security Research and Education Center, 99 Pacific Street, Building 455E, Monterey, CA 93940-2481; Defense Manpower Data Center, 400 Gigling Road, Seaside, CA 93955-6771; and Data Center, Naval Postgraduate School, Monterey, CA 93943.

Categories of individuals covered by the system:

Present and former Department of Defense (DoD) civilian employees, military members, and DoD contractor employees who have had or applied for security clearances.

Categories of records in the system:

Lists of cleared individuals and their security clearance and adjudication action information; data derived from: DD Forms 1879, 398 and 398-2; Standard Forms 85 and 86; and credit, criminal history and other database and sources checked during the course of background investigations and/or personnel security continuing evaluation measures; background investigation reports; and responses from personnel security-related interviews and questionnaires.

Authority for maintenance of the system:

E.O. 12968, Access to Classified Information; 50 U.S.C. 781-887, Internal Security Act of 1950; E.O. 9397 (SSN); E.O. 10450, Security Requirements for Government Employment; E.O. 10865, Safeguarding Classified Information Within Industry; E.O. 12333, United States Intelligence Activities; E.O. 12958, Classified National Security Information; 5 U.S.C. 9101, Access to Criminal History Information for National Security and Other Purposes; and 5 U.S.C. 301, Departmental Regulations, which authorizes DoD Directive 5200.2-R, DoD Personnel Security Program Regulation.

Purpose(s):

To perform research, development, and analyses for (1) evaluating and improving DoD personnel security procedures, programs, and policies; (2) assisting in providing training, instruction, and advice on personnel security subjects for DoD Components; (3) encouraging cooperative research within and among DoD Components on projects having DoD-wide implications in order to avoid duplication; (4) addressing items of special interest to personnel security officials within DoD Components; and (5) identifying areas in the personnel security field that warrant more intense scrutiny; and (6) conducting personnel security pilot test projects.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To Federal, State, and local government agencies, if necessary, to obtain information from them, which will assist PERSEREC in identifying areas in the personnel security field that may warrant more training, instruction, research, or intense scrutiny. This would typically involve obtaining nationwide statistical data or relevant information at the unit or individual level on a specific security issue (i.e. financial, criminal, alcohol, etc.) or set of issues that could be used to assist an investigator or adjudicator in evaluating an individual’s conduct.

The DoD ‘Blanket Routine Uses’ set forth at the beginning of the OSD compilation of systems of records notices apply to this system.

Policies and practices for storing, retrieving, accessing, retaining, and disposing of records in the system:

Storage:

Maintained on paper, computer and computer output products, and in microform.

Retrievability:

Records may be retrieved by name or Social Security Number.

Safeguards:

Records are stored under lock and key, in secure containers, or on electronic media with intrusion safeguards.

Retention and disposal:

Disposition pending (until NARA disposition is approved, treat as permanent).

System manager(s) and address:

Director, Defense Personnel Security Research and Education Center, 99 Pacific Street, Building 455E, Monterey, CA 93940-2481.

Notification procedure:

Individuals seeking to determine whether information about themselves is contained in this system should address written inquiries to the Director, Defense Personnel Security Research and Education Center, 99 Pacific Street, Building 455E, Monterey, CA 93940-2481.

The individual should provide sufficient proof of identity such as full name, Social Security Number, date and place of birth, military, contractor, or civilian status while associated with the Department of Defense, places and dates of DoD or contractor employment, and other information verifiable from the record itself.

Record access procedures:

Individuals seeking access to information about themselves contained in this system of record should address written inquires to the Director, Defense Personnel Security Research and Education Center, 99 Pacific Street, Building 455E, Monterey, CA 93940-2481.

The individual should provide sufficient proof of identity such as full name, Social Security Number, date and place of birth, military, contractor, or civilian status while associated with the Department of Defense, places and dates of DoD or contractor employment, and other information verifiable from the record itself.

Contesting record procedures:

The OSD rules for accessing records, for contesting contents and appealing initial agency determinations are published in OSD Administrative Instruction 81; 32 CFR part 311; or may be obtained from the system manager.

Record source categories:

Information is obtained from the Defense Clearance and Investigative Index, military records, DoD civilian employment and military personnel records, Defense Security Service records, records of the Departments of Justice and Treasury, other commercial and government sources providing personnel security-relevant information, and interviews with and questionnaires completed by record subjects.

Exemptions claimed for the system:

Investigative material compiled solely for the purpose of determining suitability, eligibility, or qualifications for federal civilian employment, military service, federal contracts, or access to classified information may be exempt pursuant to 5 U.S.C. 552a(k)(5), but only to the extent that such material would reveal the identity of a confidential source.

An exemption rule for this system has been promulgated in accordance with requirements of 5 U.S.C. 553(b)(1), (2), and (3), (c) and (e) published in 32 CFR part 311. For additional information contact the system manager.

[FR Doc. 02-29815 Filed 11-27-02; 8:45 am]

BILLING CODE 5001-08-P